DEPARTMENT OF VETERANS AFFAIRS

Veterans' Advisory Committee on Rehabilitation (VACOR); Notice of Meeting

The Department of Veterans Affairs (VA) gives notice under Public Law 92-463 (Federal Advisory Committee Act) that a meeting of the Veterans' Advisory Committee on Rehabilitation (VACOR) will be held on November 8-10, 2004, at the Department of Veterans Affairs Washington Regional Office, 1722 I Street NW., Washington, DC, 20421. The meeting sessions will be held in the third floor training room and will begin at 1 p.m. on November 8 and 8:30 a.m. on November 9 and 10. The meeting sessions will end at 4:30 p.m. on November 8 and 9 and at noon on November 10. The meeting is open to the public.

The purpose of the Committee is to provide recommendations to the Secretary of Veterans Affairs on the rehabilitation needs of veterans with disabilities and on the administration of VA's rehabilitation programs.

During the meeting, committee members will be briefed on various VA rehabilitation related initiatives. They will also receive updates on the Vocational Rehabilitation and Employment Task Force report and recommendations, the Spinal Cord Injury Research Project and Research Model, and other disability and rehabilitation issues related to veterans. Additionally, the Committee will receive a briefing from the Advisory Committee on Prosthetics and Special Disabilities. The Committee will also discuss recommendations for the 2004 report.

No time will be allocated at this meeting for oral presentations from the public. Any member of the public wishing to attend the meeting is requested to contact Ms. Carolyn Davis, Designated Federal Officer, at (202) 273-7433. The Committee will accept written comments. Comments can be addressed to Ms. Davis at the Department of Veterans Affairs, Veterans Benefits Administration (28), 810 Vermont Avenue, NW., Washington, DC 20420, or sent electronically to VRECDAVI@VBA.VA.GOV. In communication with the Committee, writers must identify themselves and state the organizations, associations, or person(s) they represent.

Dated: October 6, 2004.
By Direction of the Secretary.
E. Philip Riggin,
Committee Management Officer.

[FR Doc. 04-23226 Filed 10-15-04; 8:45 am]

BILLING CODE 8320-01-M